DEPARTMENT OF ENERGY

Federal Energy Regulatory Commission

[Docket No. CP02-374-000]

Hackberry LNG Terminal, L.L.C.; Notice of Resource Agency Meeting and Site Visit

August 29, 2002.

On September 11, 2002, staff of the Office of Energy Projects (OEP) will attend an interagency meeting and pre-certification site visit of Hackberry LNG Terminal L.L.C.'s (Hackberry LNG) proposed liquefied natural gas (LNG) import terminal and storage facility in Cameron Parish, Louisiana. Representatives of Federal and state resource agencies, as well as representatives of Hackberry LNG, will be present.

All interested parties may attend the site visit. Those planning to attend must provide their own transportation. Anyone interested in participating should meet at the proposed LNG terminal site, located approximately 15 miles south of Sulphur, Louisiana along Louisiana State Route 27, at 8:30 a.m. on September 11, 2002. The meeting place is a gravel drive on the left side of Louisiana State Route 27, two miles south of the Intracoastal Waterway bridge.

Linwood A. Watson, Jr.,
Deputy Secretary.

[FR Doc. 02-22659 Filed 9-5-02; 8:45 am]

BILLING CODE 6717-01-P